OCCUPATIONAL SAFETY AND HEALTH REVIEW COMMISSION

Final Information Quality Guidelines

AGENCY: Occupational Safety and Health Review Commission.

ACTION: Notice of guidelines.

SUMMARY: On May 3, 2002, The Occupational Safety and Health Review Commission (Review Commission) solicited comments on its information quality guidelines. (67 FR 22469). Few comments were received. Those that were received were general in nature and did not address the Review Commission's proposal with specificity. The only changes to the proposal were made pursuant to suggestions from OMB. The definition of “disseminate” was amended to conform to the OMB position that dissemination “also does not include distribution limited to correspondence with individuals or persons, archival records, public filings, subpoenas or adjudicative processes. In addition, dissemination does not include distribution limited to press releases, unless the release contains new substantive information not covered by a previous information dissemination subject to the guidelines.”

Additionally, the guidelines now require that where an initial request for correction or a request for reconsideration requires more than 30 working days to resolve, “the agency will inform the complainant that more time is required and indicate the reason why and an estimated decision date.”

The guidelines are posted on the Review Commission's Web site at http://www.oshrc.gov.

DATES: The guidelines are currently available on the Review Commission website and are effective immediately.

FOR FURTHER INFORMATION CONTACT: Linda Whitsett, Public Information Officer, One Lafayette Centre, 1120 20th St., NW., 9th Floor, Washington, DC 20036-3419, phone (202) 606-5410, extension 215.

Authority: Section 515 of the Treasury and General Government Appropriations Act for Fiscal Year 2001 (Pub. L. 106-554; 114 Stat. 2763).

Dated: September 30, 2002.
W. Scott Railton,
Chairman.

[FR Doc. 02-25261 Filed 10-3-02; 8:45 am]

BILLING CODE 7600-01-M